Memorandum of April 27, 2010

Delegation of Certain Functions Under Section 104(g) of the United States-India Peaceful Atomic Energy Cooperation Act of 2006, as Amended by Public Law 110-369

Memorandum for the Secretary of State

By the authority vested in me as President by the Constitution and the laws of the United States, including section 301 of title 3, United States Code, I hereby delegate to you the functions and authority conferred upon the President by section 104(g) of the United States-India Peaceful Atomic Energy Cooperation Act of 2006 (Public Law 109-401), as amended by section 105 of Public Law 110-369, to make the specified report to the Congress.

You are authorized and directed to publish this memorandum in the Federal Register.

THE WHITE HOUSE,

Washington, April 27, 2010

[FR Doc. 2010-10584

Filed 5-3-10; 8:45 am]

Billing code 4710-10-P